DEPARTMENT OF DEFENSE

Office of the Secretary

[Transmittal No. 18-34]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-34 with attached Policy Justification and Sensitivity of Technology.

Dated: October 24, 2018.
Aaron T. Siegel,
Alternate OSD Federal Register Liaison Officer, Department of Defense.

Transmittal No. 18-34

Notice of Proposed Issuance of Letter of Offer Pursuant to Section 36(b)(1) of the Arms Export Control Act, as amended

(i) Prospective Purchaser: Republic of Korea

Major Defense Equipment * | $1.54 billion
Other | $ .56 billion
TOTAL | $2.10 billion

(iii) Description and Quantity or Quantities of Articles or Services under Consideration for Purchase:

Major Defense Equipment (MDE):

Six (6) P-8A Patrol Aircraft, which includes:

Nine (9) Multifunctional Information Distribution System Joint Tactical Radio System 5 (MIDS JTRS) (one (1) for each aircraft, one (1) for the Tactical Operations Center, and two (2) spares)

Forty-two (42) AN/AAR-54 Missile Warning Sensors (six (6) for each aircraft and six (6) spares)

Fourteen (14) LN-251 with Embedded Global Positioning Systems (GPS)/Inertial Navigations Systems (EGIs) (two (2) for each aircraft and two (2) spares)

Non-MDE includes:

Commercial engines; Tactical Open Mission Software (TOMS); Electro-Optical (E.O.) and Infrared (IR) MX-20HD; AN/AAQ-2(V)1 Acoustic System; AN/APY-10 Radar; ALQ-240 Electronic Support Measures; AN/ALE-47 Counter Measures Dispensing System; support equipment; operation support systems; maintenance trainer/classrooms; publications; software, engineering, and logistics technical assistance; foreign Liaison officer support, contractor engineering technical services; repair and return; transportation; aircraft ferry; and other associated training, logistics, support equipment and services.

(iv) Military Department: Navy (KS-P-SEJ)

(v) Prior Related Cases, if any: N/A

(vi) Sales Commission, Fee, etc., Paid, Offered, or Agreed to be Paid: None

(vii) Sensitivity of Technology Contained in the Defense Article or Defense Services Proposed to be Sold: See Annex Attached

(viii)Date Report Delivered to Congress: September 13, 2018

* As defined in Section 47(6) of the Arms Export Control Act.

POLICY JUSTIFICATION

Korea—P-8A Aircraft and Associated Support

The Republic of Korea (ROK) has requested to buy six (6) P-8A Patrol Aircraft, which includes: nine (9) Multifunctional Information Distribution System Joint Tactical Radio Systems 5 (MIDS JTRS 5) (one (1) for each aircraft, one (1) for the Tactical Operations Center (TOC) and two (2) as spares); fourteen (14) LN-251 with Embedded Global Positioning Systems (GPS)/Inertial Navigations Systems (EGIs) (two (2) for each aircraft and two (2) as spares); and forty-two (42) AN/AAR-54 Missile Warning Sensors (six (6) for each aircraft and six (6) as spares). Also included are commercial engines; Tactical Open Mission Software (TOMS); Electro-Optical (E.O.) and Infrared (IO) MX-20HD; AN/AAQ-2(V)1 Acoustic System; AN/APY-10 Radar; ALQ-240 Electronic Support Measures; AN/ALE-47 Counter Measures Dispensing System; support equipment; operation support systems; maintenance trainer/classrooms; publications; software, engineering, and logistics technical assistance; foreign liaison officer support; contractor engineering technical services; repair and return; transportation; aircraft ferry; and other associated training, logistics, support equipment and services. The total estimated program cost is $2.1 billion.

The ROK is one of the closest allies in the INDOPACOM Theater. The proposed sale will support U.S. foreign policy and national security objectives by enhancing Korea's naval capabilities to provide national defense and significantly contribute to coalition operations.

The ROK procured and has operated U.S.-produced P-3 Maritime Surveillance Aircraft (MSA) for over 25 years, providing interoperability and critical capabilities to coalition maritime operations. The ROK has maintained a close MSA acquisition and sustainment relationship with the U.S. Navy over that period. The proposed sale will allow the ROK to modernize and sustain its MSA capability for the next 30 years. As a long-time P-3 operator, the ROK will have no difficulty transitioning its MSA force to P-8A.

The proposed sale of this equipment and support does not alter the basic military balance in the region.

The prime contractor will be The Boeing Company, Seattle, WA. Additional contractors include: ASEC; Air Cruisers Co LLC; Arnprior Aerospace, Canada; AVOX Zodiac Aerospace; BAE; Canadian Commercial Corporation (CCC)/EMS; Compass; David Clark; DLS or ViaSat, Carlsbad, CA; DRS; Exelis, McLean, VA; GC Micro, Petaluma, CA; General Dynamics; General Electric, UK; Harris; Joint Electronics; Lockheed Martin; Martin Baker; Northrop Grumman Corp, Falls Church, VA; Pole Zero, Cincinnati, OH; Raytheon, Waltham, MA; Raytheon, UK; Rockwell Collins, Cedar Rapids, IA; Spirit Aero, Wichita, KS; Symmetries Telephonics, Farmingdale, NY; Terma, Arlington, VA; Viking; and WESCAM.

The purchaser typically requests offsets. There are no known offset agreements proposed in connection with this potential sale. Any offset agreement will be defined in negotiations between the Purchaser and the prime contractor.

Implementation of this proposed sale will require approximately three (3) U.S. government personnel and ten (10) contractor personnel to support the program in country.

There will be no adverse impact on U.S. defense readiness as a result of this proposed sale.

Transmittal No. 18-34

Notice of Proposed Issuance of Letter of Offer Pursuant to Section 36(b)(1) of the Arms Export Control Act

Annex

Item No. vii

(vii) Sensitivity of Technology:

1. The P-8A aircraft is a militarized version of the Boeing 737-800 Next Generation (NG) commercial aircraft. The P-8A is replacing the P-3C as the Navy's long-range Anti-Submarine Warfare (ASW), Anti-Surface Warfare (ASuW), Intelligence, Surveillance and Reconnaissance (ISR) aircraft. The overall highest classification of the P-8A weapon system is SECRET. The P-8A mission systems hardware is largely UNCLASSIFIED, while individual software elements (mission systems, acoustics, ESM, EWSP, etc.) are classified up to SECRET.

2. P-8A mission systems include:

a. Tactical Open Mission Software (TOMS). TOMS functions include environment planning, tactical aids, weapons planning aids, and data correlation. TOMS includes an algorithm for track fusion which automatically correlates tracks produced by on board and off board sensors.

b. Electro-Optical (E.O.) and Infrared (IR) MX-20HD. The E.O./IR system processes visible E.O. and IR spectrum to detect and image objects.

c. AN/AAQ-2(V)1 Acoustic System. The Acoustic sensor system is integrated within the mission system as the primary sensor or the aircraft ASW missions. The system has multi-static active coherent (MAC) 64 sonobuoy processing capability and acoustic sensor prediction tools.

d. AN/APY-10 Radar. The aircraft radar is a direct derivative of the legacy AN/APS-137(V) installed in the P-3C. The radar capabilities include GPS Selective Availability Anti-Spoofing Module (SAASM), SAR and ISAR imagery resolutions, and periscope detection mode.

e. ALQ-240 Electronic Support Measures (ESM). This system provides real time capability for the automatic detection, location, measurement, and analysis of RF-signals and modes. Real time results are compared with a library of known emitters to perform emitter classification.

f. Electronic Warfare Self Protection (EWSP). The P-8A aircraft EWSP consists of the ALQ-213 Electronic Warfare Management System (EWMS), AN/AAR-54 Missile Warning Sensors and AN/ALE-47 Countermeasures Dispensing System (CMDS). The EWSP includes threat information. Technical data and documentation to be provided are UNCLASSIFIED.

g. Multifunctional Information Distribution System-Joint Tactical Radio System 5 (MIDS JTRS 5) is an advanced Link-16 Command, Control, Communications, and Intelligence (C3I) system incorporating high-capacity, jam-resistant, digital communication links for exchange of near real-time tactical information, including both data and vice, among air, ground, and sea elements. The MIDS JTRS 5 terminal hardware, publications, performance specifications, operational capability, parameters, vulnerabilities to countermeasures, and software documentation are classified CONFIDENTIAL. The classified information to be provided consists of that which is necessary for the operation, maintenance, and repair (through intermediate level) of the data link terminal, installed systems, and related software.

h. The Embedded Global Positioning System (EGI)-Inertial Navigation System (INS)/LN-251 is a sensor that combines Global Positioning System (GPS) and inertial sensor inputs to provide accurate location information for navigation and targeting. The EGI-INS/LN-251 is UNCLASSIFIED. The GPS cryptovariable keys needed for highest GPS accuracy are classified up to SECRET.

3. If a technologically advanced adversary were to obtain access of the P-8A specific hardware and software elements, systems could be reverse engineering to discover USN capabilities and tactics. The consequences of the loss of this technology, to a technologically advanced or competent adversary, could result in the development of countermeasures or equivalent systems, which could reduce system effectiveness or be used in the development of a system with similar advanced capabilities.

4. A determination has been made that the recipient government can provide substantially the same degree of protection for the technology being released as the U.S. Government. This sale is necessary in furtherance of the U.S. foreign policy and national security objectives outlined in the Policy Justification.

5. All defense articles and services listed in this transmittal have been authorized for release and export to the Republic of Korea.

[FR Doc. 2018-23612 Filed 10-29-18; 8:45 am]

BILLING CODE 5001-06-P